DEPARTMENT OF HEALTH AND HUMAN SERVICES

Centers for Disease Control and Prevention

Rescission of February 4, 2004, Order and Subsequent Amendments Prohibiting the Importation of Birds and Bird Products From Specified Countries

AGENCY: Centers for Disease Control and Prevention (CDC), Department of Health and Human Services (HHS).

ACTION: Notice with comment period.

SUMMARY: The Centers for Disease Control and Prevention (CDC), Department of Health and Human Services (HHS) is announcing its intent to rescind its February 4, 2004 order and subsequent amendments prohibiting the importation of birds and bird products from specified countries based on the threat that imports from such countries increases the risk that highly pathogenic avian influenza H5N1 may be introduced into the United States. After consideration of public comment, CDC will publish a final notice regarding these prohibitions. The U.S. Department of Agriculture (USDA) Animal and Plant Health Inspection Service (APHIS) has implemented and continues to enforce regulations to prohibit or restrict the importation of birds, poultry, and unprocessed birds and poultry products from regions that have reported the presence of highly pathogenic avian influenza H5N1 in poultry. See 9 CFR 93.101, 93.201, 94.6, & 95.30. While USDA/APHIS actions are based primarily on protecting the U.S. commercial poultry industry from the introduction of highly pathogenic avian influenza H5N1, these actions have the added benefit of mitigating the risk of human exposure to the virus. Because the USDA/APHIS import restrictions adequately address risks to human health, HHS/CDC is announcing the intent to lift its embargo against imports of birds and unprocessed bird products from those same countries and solicits comments on this proposal. All of the bird embargoes that are currently in force under USDA regulations will remain in force. HHS/CDC will work closely with USDA/APHIS to monitor the international situation regarding HPAI H5N1 outbreaks and will take additional action if it identifies human health risks that are not adequately contained by USDA regulatory actions.

DATES: Written comments must be received on or before February 20, 2009. Comments received after January 21, 2009 will be considered to the extent possible.

ADDRESSES: You may submit written comments to the following address: Division of Global Migration and Quarantine, Centers for Disease Control and Prevention, U.S. Department of Health and Human Services, Attn: Rescission Notice, 1600 Clifton Road, NE., MS E-03, Atlanta, Georgia 30333.

You may submit written comments electronically via the Internet at the following Address: http://regulations.gov, or via e-mail to DGMQpubliccomments@cdc.gov.

FOR FURTHER INFORMATION CONTACT: Stacy M. Howard, Division of Global Migration and Quarantine, Centers for Disease Control and Prevention, U.S. Department of Health and Human Services, 1600 Clifton Road, NE., MS E-03, Atlanta, Georgia 30333; telephone 404-498-1600.

SUPPLEMENTARY INFORMATION:

Background

On February 4, 2004, the Centers for Disease Control and Prevention (CDC) within the U.S. Department of Health and Human Services issued an order to ban immediately the import of all birds (Class: Aves) from specified countries, subject to limited exemptions for returning pet birds of U.S. origin and certain processed bird-derived products. HHS/CDC took this step because birds from these countries can potentially infect humans with avian influenza (influenza A/[H5N1]). Countries affected by the February 4, 2004, order included Cambodia, Indonesia, Japan, Laos, People's Republic of China (including Hong Kong Special Administrative Region [SAR]), South Korea, Thailand, and Vietnam. This order was further amended on March 10, 2004, to lift the embargo of birds and bird products from the Hong Kong SAR because of the documented control of the outbreak there and the absence of highly pathogenic avian influenza H5N1 cases in Hong Kong's domestic bird populations. Following the documentation of highly pathogenic avian influenza H5N1 in commercial birds in additional countries, HHS/CDC issued amendments to the February 4, 2004, order that added these countries to its embargo: Malaysia on September 28, 2004; Kazakhstan, Romania, Russia, Turkey, and Ukraine on December 29, 2005; Nigeria on February 8, 2006; India on February 22, 2006; Egypt on February 27, 2006; Niger on March 2, 2006; Albania, Azerbaijan, Cameroon, and Burma (Myanmar) on March 15, 2006; Israel on March 20, 2006; Afghanistan on March 21, 2006; Jordan on March 29, 2006; Burkina Faso on April 10, 2006; Pakistan on April 10, 2006; Gaza, the West Bank, and the Ivory Coast (Côte d'Ivoire) on April 28, 2006; Sudan on May 16, 2006; Djibouti on June 2, 2006; and Kuwait on February 28, 2007.

The HHS/CDC February 4, 2004, order and subsequent amendments have complemented simultaneous actions taken by the Animal and Plant Health Inspection Service (APHIS) within the U.S. Department of Agriculture (USDA). USDA/APHIS amended its regulations to prohibit or restrict the importation of birds, poultry, and unprocessed birds and poultry products from regions that have reported the presence of highly pathogenic avian influenza H5N1 in poultry. See 9 CFR 93.101, 93.201, 94.6, & 95.30. As the United Nations Food and Agriculture Organization and the World Organization for Animal Health (OIE) have confirmed additional cases of highly pathogenic avian influenza (H5N1) in commercial birds, USDA/APHIS has added additional countries and regions to its ban.

HHS/CDC believes that the actions taken to date by USDA/APHIS adequately mitigate the human health risks associated with birds and unprocessed bird products imported from the countries of concern, and that the HHS/CDC order of February 4, 2004, and subsequent amendments are no longer needed. HHS/CDC announces its intent to lift its embargo of birds and unprocessed bird products from specified countries to ensure a more coordinated federal response to the control of highly pathogenic avian influenza H5N1.

Dated: January 9, 2009.
Julie Louise Gerberding,
Director, Centers for Disease Control and Prevention.

[FR Doc. E9-1029 Filed 1-16-09; 8:45 am]

BILLING CODE 4163-18-P